DEPARTMENT OF HEALTH AND HUMAN SERVICES

Administration for Community Living

Agency Information Collection Activities; Proposed Collection; Comment Request; of ACL's Lifespan Respite Program Grantee Performance Measurement Reporting Tool

AGENCY: Administration for Community Living, Department of Health and Human Services.

ACTION: Notice.

SUMMARY: The Administration for Community Living is announcing that the proposed collection of information listed above has been submitted to the Office of Management and Budget (OMB) for review and clearance as required under the Paperwork Reduction Act of 1995.

DATES: Submit written comments on the collection of information by March 20, 2023.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Emily Anozie, Email emily.anozie@acl.hhs.gov, or Phone (202) 795-7347.

SUPPLEMENTARY INFORMATION: In compliance with 44 U.S.C. 3507, ACL has submitted the following proposed collection of information to OMB for review and clearance. This information collection (IC) solicits comments on the IC requirements, outlined in the Lifespan Respite Care Reauthorization Act of 2020, Section 2904, which requires Lifespan Respite Care Program grantees to report data, information, and metrics for the purpose of program evaluation. Such data, information, and metrics are to be used to identify “. . . effective programs and activities funded . . .” through ACL's Lifespan Respite Care Program grants.

This IC collects Caregiver and Care Recipient demographics. Demographic questions include information about age, sexual orientation, gender identity, geographic location, ethnicity, and race. Racial equity and sexual orientation and gender identity (SOGI) data elements are consistent with recommendations regulated under Executive Order on Advancing Racial Equity and Support for Underserved Communities Through the Federal Government and the Executive Order on Advancing Equality for Lesbian, Gay, Bisexual, Transgender, Queer, and Intersex Individuals.

ACL's Office of Supportive and Caregiver Services aims to improve Lifespan Respite Care Program grantee performance measurement and tracking through a new quantitative grantee reporting tool. The existing reporting template used by most ACL grantees funded from discretionary sources consists of four open-ended, narrative questions related to program implementation and outputs, making comparisons between different grant periods and grantees challenging. The proposed tool will allow ACL to meet the additional requirements stated in Section 2904 of the Lifespan Respite Care Reauthorization Act of 2020, by adding quantitative data elements to the existing reporting requirements in accordance with program statute. This tool will allow for more effective tracking of how federal funds are being used, including aggregate data on people served and program development toward stated goals.

In this IC, the new quantitative grant reporting tool will be disseminated to all new Lifespan Respite Program grantees upon grant award. Specifically, the tool will collect information related to respite care services delivered, caregiver demographics, care recipient demographics, respite training, and lifespan respite program systems and providers. Ultimately, this reporting will assist ACL's Office of Supportive and Caregiver Services to assess the performance of the Lifespan Respite Program grantees in improving the delivery and quality of respite services for family caregivers of children and adults of all ages with special needs.

Comments in Response to the 60-Day Federal Register Notice

A notice published in the Federal Register Vol. 87, No. 207/Thursday, October 27, 2022. Two comments were received during the 60-day FRN. ACL's responses to these comments are included below.

Topic/issue | Comment | ACL Response
Burden | “The proposed quantitative grant reporting tool places limited additional burden on [omitted organization name]—our program already gathers and evaluates most of the proposed measurement and tracking metrics.” | ACL concurs and plans to monitor the burden once this information collection begins.
Ease of use | “[omitted organization name] recently began testing the draft reporting tool in preparation for its anticipated implementation, and the agency's utilization of the draft reporting tool has gone smoothly. [omitted organization name] is confident in its ability to implement the proposed information collection and concurs in ACL's assessment that the modernized reporting tool would provide valuable data on the delivery and quality of respite services for family caregivers of individuals with disabilities.” | ACL concurs and plans to monitor the ease of use once this information collection begins.

Estimated Program Burden: ACL estimates the burden of this collection of information as follows:

A maximum of 40 grantees are expected to respond to the grant reporting tool semiannually. The approximate burden for completion may be 6 hours per respondent for a total estimate of 480 hours. The estimated completion burden includes time to review the instructions, read the questions, compile information, and complete responses.

IC Burden Chart
Respondent/data collection activity | Number of respondents | Responses per respondent | Hours per response | Annual burden hours
Grantee reporting tool | 40 | 2 | 6 | 480
Total |  |  |  | 480

Dated: February 11, 2023.
Alison Barkoff,
Acting Administrator and Assistant Secretary for Aging.

[FR Doc. 2023-03267 Filed 2-15-23; 8:45 am]

BILLING CODE 4154-01-P